DEPARTMENT OF ENERGY

Federal Energy Regulatory Commission

[Docket No. CP08-52-000]

Caledonia Energy Partners, L.L.C.; Notice of Intent To Prepare an Environmental Assessment for the Proposed Caledonia Expansion Project and Request for Comments on Environmental Issues

February 14, 2008.

The staff of the Federal Energy Regulatory Commission (FERC or Commission) will prepare an environmental assessment (EA) that will discuss the environmental impacts of the Caledonia Expansion Project involving construction and operation of natural gas storage, pipeline, and compression facilities by Caledonia Energy Partners, L.L.C. (Caledonia) in Lowndes and Monroe Counties, Mississippi. The EA will be used by the Commission in its decision-making process to determine whether the project is in the public convenience and necessity.

This notice announces the opening of the scoping process the Commission will use to gather input from the public and interested agencies on the project. Your input will help determine which issues need to be evaluated in the EA. Please note that the scoping period will close on March 17, 2008. Details on how to submit comments are provided in the Public Participation section of this notice.

This notice is being sent to affected landowners; federal, state, and local government agencies; elected officials; Native American tribes; other interested parties; and local libraries and newspapers. State and local government representatives are asked to notify their constituents of this proposed project and to encourage them to comment on their areas of concern.

Affected landowners includes all landowners who are potential easement grantors, whose property may be used temporarily for project purposes, or who own homes within distances defined in the Commission's regulations of certain aboveground facilities. If you are a landowner receiving this notice, you may be contacted by a Caledonia representative about the acquisition of an easement to construct, operate, and maintain the proposed facilities. Caledonia would seek to negotiate a mutually acceptable agreement. However, if the project is approved by the Commission, that approval conveys with it the right of eminent domain. Therefore, if easement negotiations fail to produce an agreement, Caledonia could initiate condemnation proceedings in accordance with state law.

A fact sheet prepared by the FERC entitled “An Interstate Natural Gas Facility On My Land? What Do I Need To Know?” addresses a number of typically asked questions, including the use of eminent domain and how to participate in the Commission's proceedings. It is available for viewing on the FERC Internet Web site (http://www.ferc.gov), using the “For Citizens” link.

Summary of the Proposed Project

Caledonia proposes to expand its existing natural gas storage facility in Lowndes and Monroe Counties, Mississippi, by developing a depleted production reservoir (the “County Line Field”) into a natural gas storage field. The County Line Field is located two miles northeast of Caledonia's existing facilities and has an aerial extent of approximately 300 acres. Since 1985, the County Line Field has produced nearly 2.7 billion cubic feet (Bcf) of natural gas from four wells. Currently, all wells in the County Line Field are plugged and abandoned and the field is substantially depleted. The field is capable of storing approximately 1.9 Bcf of working gas at the maximum allowable operating pressure.

Caledonia would construct one new injection/withdrawal well, associated wellhead piping and meter facilities, and 2.04 miles of 8-inch-diameter pipeline to interconnect the County Line Field with its existing facilities. In addition, Caledonia would install approximately 10,000 horsepower of additional compression and ancillary equipment in a new compressor building within its existing compressor station. The additional compressors would allow Caledonia to increase the operating pressure in both its existing and the proposed storage fields from 2,110 pounds per square inch absolute (psia) to 2,518 psia, thereby increasing the storage capacity. In total, the proposed project would increase the maximum working gas storage capacity of Caledonia's facility from 11.7 Bcf to approximately 16.9 Bcf. The maximum daily withdrawal capability would increase from 330 million cubic feet per day (MMcf/d) to 477 MMcf/d.

The general location of the proposed facilities is shown in Appendix 1.¹

¹ The appendices referenced in this notice are not being printed in the Federal Register. Copies of all appendices are available on the Commission's website at the “eLibrary” link or from the Commission's Public Reference Room, 888 First Street, NE., Washington, DC 20426, or call (202) 502-8371. For instructions on connecting to eLibrary refer to the “Additional Information” section of this notice. Copies of the appendices were sent to all those receiving this notice in the mail. Requests for detailed maps of the proposed facilities should be made directly to Caledonia Energy Partners, L.L.C. by calling Jim Goetz at (972) 691-3332.

Land Requirements for Construction

The proposed construction would impact a total of 14.35 acres of agricultural and forested lands, of which 9.87 acres would be maintained permanently for facility operations. Pipeline construction would require a 75-foot-wide right-of-way, of which 50 feet would be maintained as permanent easement. Caledonia would utilize its compressor station for pipe storage. Access would be provided via existing public roads and the temporary construction right-of-way.

The EA Process

We ² are preparing this EA to comply with the National Environmental Policy Act (NEPA) which requires the Commission to take into account the environmental impact that could result if it authorizes Caledonia's proposal. By this notice, we are also asking federal, state, and local agencies with jurisdiction and/or special expertise with respect to environmental issues to formally cooperate with us in the preparation of the EA. Agencies that would like to request cooperating status should follow the instructions for filing comments provided below.

² “We,” “us,” and “our” refer to the environmental staff of the FERC's Office of Energy Projects.

NEPA also requires the FERC to discover and address concerns the public may have about proposals. This process is referred to as “scoping.” The main goal of the scoping process is to focus the analysis in the EA on the important environmental issues. By this Notice of Intent, we are requesting public comments on the scope of the issues to address in the EA. All comments received will be considered during the preparation of the EA.

The EA will discuss impacts that could occur as a result of the construction and operation of the proposed project under these general headings:

• Geology and soils

• Water resources

• Land use and visual quality

• Cultural resources

• Vegetation and wildlife (including threatened and endangered species)

• Air quality and noise

• Reliability and safety

• Cumulative impact

We will also evaluate reasonable alternatives to the proposed project or portions of the project, where necessary, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are received and considered, please carefully follow the instructions in the Public Participation section below.

Public Participation

You can make a difference by providing us with your specific comments or concerns about the project. By becoming a commentor, your concerns will be addressed in the EA and considered by the Commission. You should focus on the potential environmental effects of the proposal and alternatives to the proposal and measures to avoid or lessen environmental impact. The more specific your comments, the more useful they will be. Please carefully follow these instructions to ensure that your comments are received in time and properly recorded:

• Send an original and two copies of your letter to: Kimberly D. Bose, Secretary, Federal Energy Regulatory Commission, 888 First St., NE., Room 1A, Washington, DC 20426;

• Label one copy of the comments for the attention of Gas Branch 3, PJ-11.3;

• Reference Docket No. CP08-52-000; and

• Mail your comments so that they will be received in Washington, DC on or before March 17, 2008.

The Commission encourages electronic filing of comments. See 18 Code of Federal Regulations 385.2001(a)(1)(iii) and the instructions on the Commission's Internet Web site at http://www.ferc.gov under the “Documents and Filing” link and the link to “eFiling.” Prepare your submission in the same manner as you would if filing on paper and save it to a file on your hard drive. You will be asked to select the type of filing you are making. This filing is considered a “Comment on Filing.”

As described above, we may publish and distribute the EA for comment. If you are interested in receiving the EA for review and/or comment, please return the Mailing List Retention Form (Appendix 2). If you do not return the Mailing List Retention Form, you will be taken off the mailing list.

Becoming an Intervenor

In addition to involvement in the EA scoping process, you may want to become an official party to the proceeding known as an “intervenor.” Intervenors play a more formal role in the process. Intervenors have the right to seek rehearing of the Commission's decision, and also receive copies of case-related Commission documents and filings by other intervenors.

If you want to become an intervenor, you must file a motion to intervene according to Rule 214 of the Commission's Rules of Practice and Procedure (18 CFR 385.214). Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the “eLibrary” link. Click on the eLibrary link, then on “General Search” and enter the docket number excluding the last three digits in the Docket Number field (i.e., CP08-52). Be sure you have selected an appropriate date range. For assistance, please contact FERC Online Support at FercOnlineSupport@ferc.gov or toll free at 1-866-208-3676, or for TTY, contact (202) 502-8659. The eLibrary link also provides access to the texts of formal documents issued by the Commission, such as Orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E8-3283 Filed 2-21-08; 8:45 am]

BILLING CODE 6717-01-P